DEPARTMENT OF HEALTH AND HUMAN SERVICES

Office of the National Coordinator for Health Information Technology, American Health Information Community Electronic Health Records Workgroup Meeting

ACTION: Announcement of meeting.

SUMMARY: This notice announces the 13th meeting of the American Health Information Community Electronic Health Records Workgroup in accordance with the Federal Advisory Committee Act (Pub. L. No. 92-463, 5 U.S.C., App.).

DATES: February 22, 2007, from 1 p.m. to 4 p.m./Eastern.

ADDRESSES: Mary C. Switzer Building (330 C Street, SW., Washington, DC 20201), Conference Room 4090 (please bring photo ID for entry to a Federal building).

FOR FURTHER INFORMATION CONTACT: http://www.hhs.gov/healthit/ahic/healthrecords/.

SUPPLEMENTARY INFORMATION: The workgroup will continue its discussion of the barriers and drivers of EHR adoption. For additional information, go to http://www.hhs.gov/healthit/ahic/healthrecords/ehr_instruct.html.

Dated: January 29, 2007.
Judith Sparrow,
Director, American Health Information Community, Office of Programs and Coordination, Office of the National Coordinator for Health Information Technology.

[FR Doc. 07-516 Filed 2-6-07; 8:45 am]

BILLING CODE 4150-24-M